DEPARTMENT OF HOMELAND SECURITY

Federal Emergency Management Agency

[Docket ID FEMA-2020-0002]

Final Flood Hazard Determinations

AGENCY: Federal Emergency Management Agency, DHS.

ACTION: Notice.

SUMMARY: Flood hazard determinations, which may include additions or modifications of Base Flood Elevations (BFEs), base flood depths, Special Flood Hazard Area (SFHA) boundaries or zone designations, or regulatory floodways on the Flood Insurance Rate Maps (FIRMs) and where applicable, in the supporting Flood Insurance Study (FIS) reports have been made final for the communities listed in the table below. The FIRM and FIS report are the basis of the floodplain management measures that a community is required either to adopt or to show evidence of having in effect in order to qualify or remain qualified for participation in the Federal Emergency Management Agency's (FEMA's) National Flood Insurance Program (NFIP). In addition, the FIRM and FIS report are used by insurance agents and others to calculate appropriate flood insurance premium rates for buildings and the contents of those buildings.

DATES: The date of January 15, 2021 has been established for the FIRM and, where applicable, the supporting FIS report showing the new or modified flood hazard information for each community.

ADDRESSES: The FIRM, and if applicable, the FIS report containing the final flood hazard information for each community is available for inspection at the respective Community Map Repository address listed in the tables below and will be available online through the FEMA Map Service Center at https://msc.fema.gov by the date indicated above.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The Federal Emergency Management Agency (FEMA) makes the final determinations listed below for the new or modified flood hazard information for each community listed. Notification of these changes has been published in newspapers of local circulation and 90 days have elapsed since that publication. The Deputy Associate Administrator for Insurance and Mitigation has resolved any appeals resulting from this notification.

This final notice is issued in accordance with section 110 of the Flood Disaster Protection Act of 1973, 42 U.S.C. 4104, and 44 CFR part 67. FEMA has developed criteria for floodplain management in floodprone areas in accordance with 44 CFR part 60.

Interested lessees and owners of real property are encouraged to review the new or revised FIRM and FIS report available at the address cited below for each community or online through the FEMA Map Service Center at https://msc.fema.gov.

The flood hazard determinations are made final in the watersheds and/or communities listed in the table below.

(Catalog of Federal Domestic Assistance No. 97.022, “Flood Insurance.”)

Michael M. Grimm,
Assistant Administrator for Risk Management, Department of Homeland Security, Federal Emergency Management Agency.

Community | Community map repository address
Jefferson County, Colorado and Incorporated Areas
Docket No.: FEMA-B-1946
City of Arvada | Engineering Division, 8101 Ralston Road, Arvada, CO 80002.
Unincorporated Areas of Jefferson County | Jefferson County Planning and Zoning Division, 100 Jefferson County Parkway, Suite 3550, Golden, CO 80419.
Larimer County, Colorado and Incorporated Areas
Docket No.: FEMA-B-1950
Town of Berthoud | Town Hall, 807 Mountain Avenue, Berthoud, CO 80513.
Town of Johnstown | Town Hall, 450 South Parish Avenue, Johnstown, CO 80534.
Unincorporated Areas of Larimer County | Larimer County Courthouse Offices Building, 200 West Oak Street, Suite 3000, Fort Collins, CO 80521.
Citrus County, Florida and Incorporated Areas
Docket No.: FEMA-B-1950
City of Crystal River | Planning and Zoning Department, 123 Northwest Highway 19, Crystal River, FL 34428.
Unincorporated Areas of Citrus County | Citrus County Building Division, 3600 West Sovereign Path, Suite 111, Lecanto, FL 34461.
Hernando County, Florida and Incorporated Areas
Docket No.: FEMA-B-1950
Unincorporated Areas of Hernando County | Hernando County Zoning Division, 789 Providence Boulevard, Brooksville, FL 34601.
Story County, Iowa and Incorporated Areas
Docket No.: FEMA-B-1940
City of Ames | City Hall, 515 Clark Avenue, Ames, IA 50010.
City of Cambridge | City Hall, 225 Water Street, Cambridge, IA 50046.
City of Collins | City Hall, 212 Main Street, Collins, IA 50055.
City of Gilbert | City Hall, 105 Southeast 2nd Street, Gilbert, IA 50105.
City of Huxley | City Hall, 515 North Main Avenue, Huxley, IA 50124.
City of Maxwell | City Hall, 107 Main Street, Maxwell, IA 50161.
City of McCallsburg | City Hall, 425 Main Street, McCallsburg, IA 50154.
City of Nevada | City Hall, 1209 6th Street, Nevada, IA 50201.
City of Roland | City Hall, 208 North Main Street, Roland, IA 50236.
City of Slater | City Hall, 101 Story Street, Slater, IA 50244.
City of Story City | City Hall, 504 Broad Street, Story City, IA 50248.
City of Zearing | City Hall, 105 West Main Street, Zearing, IA 50278.
Unincorporated Areas of Story County | Story County Administration Building, 900 6th Street, Nevada, IA 50201.
Plaquemines Parish, Louisiana (All Jurisdictions)
Docket No.: FEMA-B-1944
Unincorporated Areas of Plaquemines Parish | Plaquemines Parish Permits, Planning and Zoning Department, 333 F. Edward Hebert Boulevard, Building 300, Belle Chasse, LA 70037.
Cleveland County, Oklahoma and Incorporated Areas
Docket No.: FEMA-B-1921
City of Norman | City Hall, Public Works Department, 201 West Gray Street, Building A, Norman, OK 73069.
City of Oklahoma City | Public Works Department, 420 West Main Street, Suite 700, Oklahoma City, OK 73102.
Union County, South Dakota and Incorporated Areas
Docket No.: FEMA-B-1936
City of Alcester | City Hall, 106 West 2nd Street, Alcester, SD 57001.
City of Beresford | City Hall, 101 North 3rd Street, Beresford, SD 57004.
City of Elk Point | City Hall, 106 West Pleasant Street, Elk Point, SD 57025.
City of North Sioux City | City Hall, 504 River Drive, North Sioux City, SD 57049.
Unincorporated Areas of Union County | Union County Courthouse, 209 East Main Street, Suite 100, Elk Point, SD 57025.
Dickson County, Tennessee and Incorporated Areas
Docket No.: FEMA-B-1905
Town of Charlotte | City Hall, 22 Court Square, Charlotte, TN 37036.
Town of Slayden | Mayor's Office, 701 Schmittou Street, Slayden, TN 37165.
Unincorporated Areas of Dickson County | Dickson County Courthouse, 4 Court Square, Charlotte, TN 37036.
Houston County, Tennessee and Incorporated Areas
Docket No.: FEMA-B-1905
City of Erin | City Hall, 15 Hill Street, Erin, TN 37061.
City of Tennessee Ridge | City Hall, 2300 South Main Street, Tennessee Ridge, TN 37178.
Unincorporated Areas of Houston County | Houston County Courthouse, 4725 East Main Street, Erin, TN 37061.
Montgomery County, Tennessee and Incorporated Areas
Docket No.: FEMA-B-1905
City of Clarksville | Regional Planning Commission, 329 Main Street, Clarksville, TN 37040.
Unincorporated Areas of Montgomery County | Montgomery County Building and Codes Department, 350 Pageant Lane, Suite 309, Clarksville, TN 37040.
Stewart County, Tennessee and Incorporated Areas
Docket No.: FEMA-B-1905
Town of Cumberland City | City Hall, 121 Main Street, Cumberland City, TN 37050.
Town of Dover | City Hall, 625 Donelson Parkway, Dover, TN 37058.
Unincorporated Areas of Stewart County | Stewart County Mayor's Office, 226 Lakeview Drive, Dover, TN 37058.
Matagorda County, Texas and Incorporated Areas
Docket No.: FEMA-B-1311 and FEMA-B-1941
City of Bay City | City Hall, 1901 5th Street, Bay City, TX 77414.
City of Palacios | City Hall, 311 Henderson Avenue, Palacios, TX 77465.
Unincorporated Areas of Matagorda County | Matagorda County Office Building, 2200 7th Street, 1st Floor, Bay City, TX 77414.

[FR Doc. 2020-19063 Filed 8-28-20; 8:45 am]

BILLING CODE 9110-12-P